DEPARTMENT OF THE INTERIOR

Bureau of Land Management

[NV-930-1430-ET; NVN-66423 Public Land Order No. 7505]

Withdrawal of Public Land for Bureau of Land Management Wildland Fire Station Site; Nevada

AGENCY: Bureau of Land Management, Interior.

ACTION: Public Land Order.

SUMMARY: This order withdraws a 0.57-acre parcel of public land from surface entry and mining to protect a Bureau of Land Management wildland fire station site. The land is located within the incorporated city of Carlin, Nevada, and is not subject to the Mineral Leasing Act of 1920 (43 CFR 3100.0-3(a)(2)(iii)).

EFFECTIVE DATE: February 25, 2002.

FOR FURTHER INFORMATION CONTACT: Dennis J. Samuelson, BLM Nevada State Office, P.O. Box 12000, Reno, Nevada 89520, 775-861-6532.

SUPPLEMENTARY INFORMATION: By virtue of the authority vested in the Secretary of the Interior by Section 204 of the Federal Land Policy and Management Act of 1976, 43 U.S.C. 1714 (1994), it is ordered as follows:

1. Subject to valid existing rights, the following described public land is hereby withdrawn from settlement, sale, location, or entry under the general land laws, including the United States mining laws (30 U.S.C. Ch. 2, (1994)), to protect a Bureau of Land Management wildland fire station site:

Mount Diablo Meridian

T. 33 N., R. 52 E.,

Sec. 27, lots 8 to17, inclusive in Block 6, Town of Carlin, as shown on the map filed in the office of the County Recorder of Elko County, Nevada, on March 6, 1919.

The area described contains 0.57 acres in Elko County.

2. The withdrawal made by this order does not alter the applicability of those public land laws governing the use of the land under lease, license, or permit, or governing the disposal of the mineral or vegetative resources other than under the mining laws.

3. This withdrawal will expire 20 years from the effective date of this order, unless, as a result of a review conducted before the expiration date pursuant to Section 204(f) of the Federal Land Policy and Management Act of 1976, 43 U.S.C. 1714(f) (1994), the Secretary determines that the withdrawal shall be extended.

Dated: November 2, 2001.
J. Steven Griles,
Deputy Secretary.

[FR Doc. 02-4373 Filed 2-22-02; 8:45 am]

BILLING CODE 4310-HC-P